DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed revised information collection. In accordance with the Paperwork Reduction Act of 1995, this notice seeks comments concerning the National Incident Management System (NIMS) Compliance Assistance Support Tool (NIMSCAST), a self-assessment tool for State, territorial, tribal, and local governments to evaluate and report on their jurisdiction's achievement with regards to NIMS implementation activities issued by FEMA's NIMS Integration Center.

SUPPLEMENTARY INFORMATION: Homeland Security Presidential Directive 5 (HSPD-5) Management of Domestic Incidents called for the establishment of a single, comprehensive NIMS. The NIMS is a system that improves response operations through the use of the Incident Command System (ICS) and other standard procedures and preparedness measures. It also promotes development of multi-jurisdictional, statewide and interstate regional mechanisms for coordinating incident management and obtaining assistance during large-scale or complex incidents. HSPD-5 dictated that Federal departments and agencies shall make adoption of the NIMS a requirement for the provision of Federal preparedness assistance funds. HSPD-5 also established and designated the NIMS Integration Center as the lead Federal agency to coordinate NIMS compliance. One of the primary functions of the NIMS Integration Center is to ensure NIMS remains an accurate and effective management tool through refining and adapting compliance requirements to address ongoing preparedness needs. To accomplish this, the NIMS Integration Center relies on input from Federal, State, local, tribal, multi-discipline and private authorities to assure continuity and accuracy of ongoing efforts.

NIMS compliance must be an ongoing effort as new personnel must be trained and plans must be revised to reflect lessons learned. States play an important role in ensuring the effective implementation of the NIMS. They must ensure that the systems and processes are in place to communicate the NIMS requirements to local jurisdictions and support them in implementing the NIMS. The long-term benefit of adopting and implementing the NIMS is that it strengthens our nation's capabilities to prevent, prepare for, respond to, and recover from any incident.

The NIMSCAST is designed to reflect the newly-released FY 2007 implementation activities and metrics and to inform the NIMS Integration Center and the Department of Homeland Security of any given jurisdiction's compliance with the NIMS.

Collection of Information

Title: NIMS Compliance Assistance Support Tool (NIMSCAST).

Type of Information Collection: Revision of a currently approved collection.

OMB Number: 1660-0087.

Form Numbers: None.

Abstract: The NIMSCAST is the tool utilized to (a) Evaluate a State, territory, tribal, and local government's compliance with standards and requirements established in the NIMS and/or NIMS Integration Center, (b) determine eligibility for Federal preparedness assistance, and (c) strengthen incident management programs at the department, agency, or jurisdiction level.

Affected Public: State, local or tribal government.

Estimated Total Annual Burden Hours: 280.

Data collection activity/instrument | Number of respondents | Frequency of responses | Hour burden per response | Annual responses | Total annual hour burden
NIMSCAST:
States and Territories | 56 | 1 | 5 | 56 | 280
Total | 56 | 1 | 5 | 56 | 280

Estimated Cost: The annual cost to respondents is calculated based on 280 hours of annual burden completed by state emergency management specialists with a median wage of $22.10 per hour for a total burden of $6,188.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before April 30, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact Marc Tagliento, NIMS Integration Center's Compliance and Technical Assistance Branch, (202) 646-2687 for additional information. You may contact the Records Management Branch for copies of the proposed collection of information at facsimile number (202) 646-3347 or e-mail address: FEMA-Information-Collections@dhs.gov.

Dated: February 16, 2007.
John A. Sharetts-Sullivan,
Chief, Records Management and Privacy, Information Resources Management Branch, Information Technology Services Division, Federal Emergency Management Agency, Department of Homeland Security.

[FR Doc. E7-3282 Filed 2-26-07; 8:45 am]

BILLING CODE 9110-09-P